DEPARTMENT OF THE INTERIOR

Bureau of Land Management

[NM-030-2810-AF]

Notice of Intent to Prepare a Resource Management Plan (RMP) Amendment; Las Cruces Field Office, New Mexico

AGENCY: Bureau of Land Management (BLM), Interior.

ACTION: Notice of intent to prepare an RMP amendment and invitation to participate in identification of issues and planning criteria.

SUMMARY: The Bureau of Land Management (BLM), Las Cruces Field Office, New Mexico, is initiating the preparation of an RMP Amendment which will include an environmental assessment (EA). The Amendment would allow the implementation of the Fire Management Plan, Phase I. The Plan would guide Fire Management Policy and Practices on public land administered by the Las Cruces Field Office. These lands include approximately 5.9 million acres in Grant, Hidalgo, Luna, Sierra, Dona Ana, and Otero Counties in southwestern New Mexico. A map of this area is available at the Las Cruces Field Office. The public is invited to participate in the planning process, beginning with the identification of issues and planning criteria.

DATES: Comments relating to the identification of issues and planning criteria will be accepted until February 28, 2000.

ADDRESSES: Comments should be sent to: Helen Graham, Team Leader, Bureau of Land Management, Las Cruces Field Office, 1800 Marquess, Las Cruces, New Mexico 88005.

FOR FURTHER INFORMATION CONTACT: Jim McCormick, Assistant Field Manager, Renewable Resources or Helen Graham, Team Leader, Las Cruces Field Office at (505) 525-4300.

SUPPLEMENTARY INFORMATION: The Fire Management Plan would amend the White Sands RMP and the Mimbres RMP.

Anticipated issues to be addressed in the development of the amendment include, but are not limited to, the following:

(1) The impact of smoke from wildfire and prescribed fire;

(2) The impact of wildfire, prescribed fire, and suppression activity on soil erosion and surface water quality;

(3) The impact of fire suppression activity on resource values;

(4) The impact of wildfire, prescribed fire, and suppression activity on wildlife, and special status species;

(5) The impact of wildfire, prescribed fire, and suppression activity on vegetation;

(6) The impact of wildfire, prescribed fire, and suppression activity on cultural resources;

(7) The proliferation of undesirable, non-native species due to fire and/or fire exclusion;

(8) The risks associated with hazardous fuel (grass, brush, etc.) accumulation in the vicinity of urban interface, sensitive features, and other improvements; These issues are not final and may be refined or expanded through active public input.

The RMP Amendment will be developed by an interdisciplinary team using representation from the Team Leader, Fire Management Specialist, Range Management Specialist, Wildlife Biologist(s), Archeologist, Soil Scientist, Hydrologist, Outdoor Recreation/Wilderness Planner, and Writer-Editor. Additional technical support will be provided by other specialists as needed.

Public participation activities during the planning process will include consultation with cooperating agencies, mail outs, media notices, Federal Register notices, and public meetings.

Three public scoping meetings will be held to obtain public input regarding the RMP Amendment. The public scoping meeting will be held at the following times and locations:

Date | Time | Location
February 15, 2000 | 7:00-9:00 p.m | BLM, Las Cruces Field Office, 1800 Marquess, Las Cruces, NM.
February 16, 2000 | 7:00-9:00 p.m | Lordsburg Civic Center, 313 East Fourth St., Lordsburg, NM.
February 17, 2000 | 7:00-9:00 p.m | Otero County Courthouse, Commission Chambers, Room 253, 1000 New York Ave., Alamogordo, NM.

Complete records of the planning process will be available for public review at the BLM, Las Cruces Field Office at the address above.

Joseph B. Peterson,
Acting Field Manager, Las Cruces.

[FR Doc. 00-1763 Filed 1-25-00; 8:45 am]

BILLING CODE 4310-VC-P